DEPARTMENT OF COMMERCE

National Oceanic and Atmospheric Administration

[RTID 0648-XE651]

Pacific Fishery Management Council; Public Meeting

AGENCY: National Marine Fisheries Service (NMFS), National Oceanic and Atmospheric Administration (NOAA), Commerce.

ACTION: Notice of public meeting (online).

SUMMARY: The Pacific Fishery Management Council (Pacific Council) will hold an online meeting of its Ad Hoc Highly Migratory Species (HMS) Fisheries Innovation Workgroup (FIW) to discuss procedures to facilitate the development of new HMS gears and achieve the goals of the HMS Roadmap. This meeting is open to the public.

DATES: The online meeting will be held Thursday, February 27, 2025, from 1 p.m. to 5 p.m., Pacific Standard Time, or until business for the day has been completed.

ADDRESSES: The meeting will be held online. Specific meeting information, including directions on how to join the meeting and system requirements will be provided in the meeting announcement on the Pacific Council's website (see www.pcouncil.org). You may send an email to Mr. Kris Kleinschmidt (kris.kleinschmidt@noaa.gov) or contact him at 503-820-2412 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of this meeting is to support the objective of identifying new and/or innovative HMS fishing gears, by identifying approaches to developing and refining the Pacific Council's exempted fishing permit process. The FIW will also review the draft HMS Roadmap and may develop a supplemental report for consideration at the Pacific Council's March meeting. Other considerations that may support this purpose will also be discussed. A meeting agenda will be posted to the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: February 3, 2025.
Rey Israel Marquez,
Acting Deputy Director, Office of Sustainable Fisheries, National Marine Fisheries Service.

[FR Doc. 2025-02312 Filed 2-5-25; 8:45 am]

BILLING CODE 3510-22-P